DEPARTMENT OF COMMERCE

Foreign-Trade Zones Board

[B-10-2020]

Foreign-Trade Zone (FTZ) 176—Rockford, Illinois; Notification of Proposed Production Activity; UniCarriers Americas Corporation (Forklift Engines and Assemblies); Marengo, Illinois

UniCarriers Americas Corporation (UniCarriers) submitted a notification of proposed production activity to the FTZ Board for its facilities in Marengo, Illinois. The notification conforming to the requirements of the regulations of the FTZ Board (15 CFR 400.22) was received on February 18, 2020.

UniCarriers already has authority (originally approved as Nissan Forklift Corporation North America) to produce forklifts within FTZ 176. The current request would add finished products and foreign status materials/components to the scope of authority. Pursuant to 15 CFR 400.14(b), FTZ activity would be limited to the specific foreign-status materials/components and specific finished products described in the submitted notification (as described below) and subsequently authorized by the FTZ Board.

Production under FTZ procedures could exempt UniCarriers from customs duty payments on the foreign-status materials/components used in export production. On its domestic sales, for the foreign-status materials/components noted below and in the existing scope of authority, UniCarriers would be able to choose the duty rates during customs entry procedures that apply to internal combustion engines, mast assemblies, and transmission assemblies for forklifts (duty rate ranges from duty-free to 2.5%). UniCarriers would be able to avoid duty on foreign-status components which become scrap/waste. Customs duties also could possibly be deferred or reduced on foreign-status production equipment.

The materials/components sourced from abroad include: Various paints (polyester-based; acrylic or vinyl polymer-based); varnishes based on acrylic or vinyl polymers; prepared water pigments; adhesives; various plastic components (tubes, pipes and hoses (rigid; flexible; not reinforced without fittings; reinforced); self-adhesive certification and operation labels; lids, caps, plugs and plates; bushings and spacers; buttons, clips and ties; covers; seals, washers and O-rings; insulators and protectors; handles and knobs; mats and pads; shrouds and panels; slippers); various bearings (plastic; ball; roller lift ball; sprocket; wheel chain ball; needle roller; cylindrical roller; side roller; main); various gaskets (plastic; graphite or carbon; copper; cylinder head; combined metal and paper, metal and rubber, metal and plastic); various guards (plastic; canvas rain; rain; overhead); various housings (plastic; flywheel; thermostat; timing chain; oil pump; drive axle; torque converter; motor sensor; connector; meter); various vulcanized rubber components (tubes, pipes and hoses (not reinforced without fittings; not reinforced with fittings); endless transmission belts; transmission belts; kits; water seals, insulators, O-rings and washers; gaskets and gasket repair kits; oil seals and oil seal repair kits; seals and seal repair kits; bellows, dampers and diaphragms; insulation; shock absorbers; boots, clips and cups; mats or cushions; mounts; valves, bonnets and covers; caps, plugs, grommets, rings and stoppers); various rubber components (tubes, pipes and hoses (with fittings reinforced with metal; without fittings reinforced with textile materials; without fittings reinforced with material other than metal or textiles; with fittings reinforced with materials other than metal or textiles); floor mats); various tires (new pneumatic; solid or cushion); various tubes (rubber inner; engine fluid drain; engine water; engine injection; lift cylinder; drive axle; exhaust; suction); cellular rubber pads and seals; various gaskets and packing (cork; coated paper or paperboard); not printed paper or paperboard labels; various manuals (operational; service; printed); tempered safety glass; various mirrors (rear view; framed glass); various engine components (insulation; cases and plates; heat shields; nozzles and holders); insulators; various assemblies (insulation; lock; hinge; caster; engine with drive plates or flywheels; air horn; chain tensioner; crankshaft damper; distributor support; fuel tube; injection tube; injector holder; jet; liquefied petroleum gas adapter; oil filler cap; oil pan; throttle chamber; engine nozzle; governor; cylinder head for hydraulic or pneumatic engines and motors; cylinder rod; fuel, grease, injection, water, oil, gear, charging, hydraulic fluid, orbital steering or roller pump; oil pump drive spindle; turbo charger; main catalyst converter; winch; radiator baffle; ball screw; battery mounting; bracket; brake; bumper; front lower forklift cab; catch; control lever shift; control valve lever; duct; floorboard; forklift panel; guard; inching lever; inching shaft; pedal link; load wheel; liquefied petroleum gas tube; mast; lower, stopping, side, locking and axle plate; hydraulic oil pipe; pipe, tube and hose; power steering tube; rod; side shift; tie rod socket; steer axle; wheel; valve; relief and safety valve; solenoid valve; vaporizer; control valve; side roller bearings; camshaft; crankshaft; flange; drive unit; gear; torque converter; flywheel; pulley; clutch; yoke; clutch drum; final drive; idler shaft; transmission case; armature; holder; stator or rotor; charger; converter; rectifier; magnet; battery; distributor; ignition coil; glow plug timer; pilot; lamp; lens; turn signal lamp; heater; buzzer; flasher unit; horn; display; printed circuit board; meter; control; headlamp; LED lamp; camshaft sensor; engine controller module; regulator; sensor; battery cable; brush; thermostat switch; oil gauge; electrical pressure sensor; airflow meter; indicator; oxygen sensor; hour meter; meter housing; thermostat); various wires (zinc-coated or plated; insulated copper); various iron or steel components (fittings with mechanical, push-on or flanged joints; pipe or tube adapters, joints or unions; pipe or tube connectors, nipples and connector assemblies; threaded adapters, connectors and connector assemblies; stranded wire with fittings; stranded wire or cable; roller chain; chain; master chain links; leaf chain; lifting chain; threaded self-tapping screws; machine screws; screws or bolts; threaded bolts or studs; U-bolts; threaded nuts; threaded plugs; spring or lock washers; washers; rivets; cotters; splint pins or snap rings; dowel pins; plug and pin assemblies; orifice plugs; Woodruff keys; helical springs; springs; beams and supports; links and bands; adjuster bars; bushings; cable guides; cables for caliper brakes; caps, clamps and clevis pins; clips; consoles; hose band assemblies; brake shoes, levers, tie rods and pivot pins; retainer plates; rods and rod assemblies); various iron, alloy or nonalloy steel components (threaded couplings or elbows; adapters, connectors, nipples and connector assemblies); various heaters (non-electric air; water and immersion; electric for forklift cab use); steel balls for port plugging; various copper components (washers; seals and plugs; insulated cable); various aluminum components (tubes and pipes; clips, pins, seals and washers; connectors); zinc clips and pins; lock cylinders and keys; locks; ignition keys; hinges; swivel casters; various iron, steel, aluminum or zinc components (gas spring cylinders; stay assemblies; brackets); various plates (base metal; camshaft; fuel pump cover; fuel receiver; brake backing; mounting, retaining, baffle, cover and backing; lower, stopping, side, locking and axle; battery, step, guide, tilt, chain, anchor and lever; drive; contact); various engines (spark ignition; diesel); various plugs (ball and blind; taper; Welch; sill body; vent; drain or oil; spark; glow and glow sets); carburetors; various components for use on spark-ignition internal combustion piston engines (assemblies (connecting rod; cylinder block; cylinder head; valve rocker cover; valve rocker shaft; water outlet); exhaust manifolds; exhaust valves; fan and air horn spacers; intake manifolds; intake valves; piston pins, rings and sets; push rods; vacuum connectors; water bypass connectors; water pump connectors); various covers (exhaust manifold; engine front; engine upper; battery; air pipe, fuse box, relay box, steering column, tilt cylinder, radiator, control level and step; seal; clutch housing; transmission/gearbox components; motor brush, front and bearing; sensor); carburetor fuel bowl floats; various spacers (fuel pump; crankshaft; fan; bevel pinion; lift cylinder; forklift; suction filter; main shaft; pinion; spacers); various cases (gear; battery; air cleaner; front cover; print board); main air bleeders; various yokes (manifold; steering linkage; yoke); oil pump adapters; oil throwers; various retainers (oil seal; valve spring; battery; forklift); various levers (throttle; inching; parking); various valve components (collets, lifters and rocker arms; spring seats; guides; hydraulic fluid; oleohydraulic or pneumatic transmission; valves; PVC; magnets); various components for use on diesel engines (assemblies (connecting rod; cylinder block; cylinder head; valve rocker cover; valve rocker shaft; water outlet); exhaust manifolds; exhaust valves; intake manifolds; intake valves and valve guides; piston pins, rings and sets; push rods; vacuum connectors; water bypass connectors; water pump connectors); various cylinder components (liners; caps; slave cylinders; supports); flywheel to torque converter pilots; hydraulic linear acting engines and motors; pistons; various pumps (fuel, grease, injection, water, oil or gear; charging, hydraulic fluid, orbital steering or roller; vacuum); pump couplings, impellers, rods and steel balls; cooling fans; compressors; turbo chargers; breathers and mufflers; fan blades; various vacuum components (pump mufflers; tanks; controls); air conditioners and their various components (motors and fans; valve expansions; condensers); hydraulic fluid and transmission oil filters and filter elements of pleated paper; intake air filters and air filter elements of pleated paper for internal combustion engines; oil strainers; weighing machinery components; scales or weighing machinery; fire extinguishers; winches; various forklift components (hydraulic jacks; adapters and adjusters; base tilt gauges; bulkheads; mast mounting caps; frames; inner mast beams; lower finger bars; mast beams; ribs; seals; shafts; steps; stiffeners; stoppers; upper finger bars; keyboards); various forklifts (battery powered; self-propelled rider type; operator riding electrical); accelerator, clutch and brake pedals; axle shafts; axle weldments; various shims (metal; lift cylinder; lift roller; forklift); ball joints; fork, mast and material handling adjusting bars and guides; torsion and guide bars; battery trays; battery rollers and stoppers; bell cranks; body panels; bogie wheel frames; bosses for joining or mating; book cover, fuse and switch boxes; bracket assembly carriages; brake boosters, chambers, drums and shoes; calipers; various collars (bolt and pin; engine mount and exhaust mounting; shaft and control level); control lever knobs and bellows; control valve rods; counterweight hooks; steel couplers; various shrouds (air pipe, battery, fuse box, relay box, steering column, tilt cylinder, radiator, control level and step; engine and fan); cross members; dashboards; drag links; drag rods; drive axle hubs; drive axle mounting brackets; eccentric discs or wheels; parking brake equalizers; fenders; front and rear overhead guard pillars; spring, pin, hose, tube and cable guides; left hand, right hand and lock pin handles; various holders (air duct, battery, lever, shrink wrap, bushing, switch and lamp; air guide, mast side and fork side; holders; fuse); hood hinges and lock bases; hood panels; hose pulley shafts; hub caps; level, pressure and air balance pump controllers; inching level bushings; jaw sideshifts; various pins (pedal, link, drawbar, guide, traction, bell crank and king; pivot, locking, hinge, lifting link, tie rod, side cover, trunnion, bell crank and anchor); load backrests; mast rail liners; various kits (mini steering wheel rebuild; ignition; electronic ignition pick up; diagnostic; seat cushion assembly); radiator, control handle and tiller arm pivot mounts; mufflers; reinforcement patches; Pitman arms; pressure lift bars; propeller shafts; various protectors (head lamp and rear lamp; chain hose, hose pulley and control lever; voltage overload); pull/push bars; pulley shafts; radiator screens; radiators; relay brackets; reservoir tanks; various wheel components (rims; brackets; forks); various rings (locking, hub, side and spacer; tolerance); roller guides; dust screens; spindle knuckles; stabilizing arms; steer axle hubs; steering columns; steering wheels; hood latch and door strikers; struts; axle and mast supports; tail pipes; tapped mast rail boss; steering connecting tie rods; tiller arms; hydraulic accumulators; mast side rollers; tapered roller bearings, cones and cups; bearing balls and needles; bearing cones and cups; camshafts; crankshafts; metal bushings; connecting rod, crankshaft and flange rod bearings; sprockets; gears, pinions and gearing; transmissions; flywheels; pulleys; clutches; universal joints; control valve packing; sleeves and sprockets; mechanical seals; various motors (electric under 18.65W; AD/DC; DC to an output of 750W; DC of an output from 750W to 75kW; AC multi-phase; starter; wiper); armatures; spring brushes; stators and rotors; inverter unit drives; power supplies, inverters and rectifiers; magnets; various sensors (magnet input; crank angle; pressure; sensors; speed; temperature; water temperature; fuel; meter); electromagnetic couplings, clutches and brakes; lead-acid storage batteries; starter generators; alternators and generators; igniters; pilots; voltage and voltage current regulators; voltage advancers; condensers; distributor contact sets; distributor caps and shafts; rotors; lamps; rear drive lights; rotating beacons; work lamps; windshield wipers; wiper arms and blades; light bulbs; lenses; television cameras; monitors; combination meters and meter panels; various resistors (pilot lamp; fixed; variable); potentiometers; rheostats; transistor cards; logic and traction cards; printed circuit boards; meters; various switches (isolating or make-and-break; push button; knife; rotary; snap-action; slide; limit; electronic); lightning arresters, voltage limiters and surge suppressors; various connectors (sensor; electrical; battery or charger); snap plug receptacles; male and female bullet terminals; fuses; contactors and relays for a voltage up to 60V; contactors and relays for a voltage over 60V; motor starters; bus bars; terminal boards; electrical panel insulators; boards, panels, modules and controllers; contact tips; contactor bases; headlamps; lamps for a voltage of 100V or lower; LED lamps; thyristors; LED diodes; transistors; speed controls; drive motor, pump motor and electrical power cables; various wire harnesses (body; engine subassembly; light); brushes; thermometers; dipsticks; flow meters; water gauges; oil gauge guides; tube guides for measurement instruments; revolution counters; hour meters; speedometers and tachometers; upholstered metal frame seats; cloth seat backs, cushions, frames and seating; and, seat cushions (duty rate ranges from duty-free to 9.0%). The request indicates that certain new pneumatic tires, lock washers, and tapered roller bearings and parts are subject to antidumping/countervailing duty (AD/CVD) orders if imported from certain countries. The FTZ Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain materials/components are subject to special duties under Section 232 of the Trade Expansion Act of 1962 (Section 232) or Section 301 of the Trade Act of 1974 (Section 301), depending on the country of origin. The applicable Section 232 and Section 301 decisions require subject merchandise to be admitted to FTZs in PF status.

Public comment is invited from interested parties. Submissions shall be addressed to the Board's Executive Secretary and sent to: ftz@trade.gov. The closing period for their receipt is April 13, 2020.

A copy of the notification will be available for public inspection in the “Reading Room” section of the Board's website, which is accessible via www.trade.gov/ftz.

For further information, contact Juanita Chen at juanita.chen@trade.gov or 202-482-1378.

Dated: February 25, 2020.
Andrew McGilvray,
Executive Secretary.

[FR Doc. 2020-04269 Filed 3-2-20; 8:45 am]

BILLING CODE 3510-DS-P